DEPARTMENT OF COMMERCE

National Oceanic and Atmospheric Administration

[Docket No. 050906238-5238-01; I.D. 090705E]

RIN 0648-ZB68

2006 Monkfish Research Set-aside Program

AGENCY: National Marine Fisheries Service (NMFS), National Oceanic and Atmospheric Administration (NOAA), Commerce.

ACTION: Notice; reallocation of set-aside days-at-sea.

SUMMARY: NMFS notifies the public of the reallocation of monkfish research days-at-sea (DAS) as exempted DAS. These are DAS that were set aside under the 2006 Monkfish Research Set-Aside (RSA) Program, but were not distributed through the NOAA grant process. These exempted DAS may be used for the conduct of monkfish related research activities during fishing year (FY) 2006 (May 1, 2006, through April 30, 2007). Requests for a monkfish DAS exemption must be submitted with a complete application for an exempted fishing permit (EFP).

DATES: Projects involving the use of exempted DAS under this program must be completed prior to the end of FY 2006, on April 30, 2007.

ADDRESSES: Applications for an EFP must be sent to the Regional Administrator (RA), NMFS, Northeast Regional Office, One Blackburn Drive, Gloucester, MA 01930.

FOR FURTHER INFORMATION CONTACT: Allison Ferreira, Fishery Policy Analyst, by phone 978-281-9103, by fax 978-281-9135, or by e-mail at allison.ferreira@noaa.gov.

SUPPLEMENTARY INFORMATION:

Background

Amendment 2 to the Monkfish Fishery Management Plan (FMP) (70 FR 21927, April 28, 2005), established the Monkfish RSA Program, which annually sets aside 500 monkfish DAS from the total number of monkfish DAS allocated to limited access monkfish vessels to be used for cooperative monkfish research programs. Amendment 2 also established a Monkfish Exemption Program, which requires the RA to reallocate as exempted DAS any monkfish research DAS not allocated through the Monkfish RSA Program. These exempted DAS may be then used by vessels for the conduct of monkfish research activities during the current fishing year (e.g., FY 2006).

On September 13, 2005, NMFS published a notice in the Federal Register announcing the 2006 Monkfish RSA Program (70 FR 54028), and solicited proposals for monkfish research activities to be conducted under this RSA program. Three proposals were received as part of this solicitation, and two were granted awards totaling 137.5 monkfish research DAS. As a result, there are 362.5 DAS available to be reallocated as exempted DAS during FY 2006. Therefore, the RA, pursuant to the regulations governing the monkfish fishery at 50 CFR 648.92(c)(1)(v), reallocates these unused research DAS from the FY 2006 Monkfish RSA Program, as exempted DAS, that may be used for the conduct of monkfish research projects during FY 2006.

All requests for monkfish DAS exemptions under the Monkfish DAS Exemption Program must be submitted to the RA along with a complete application for an EFP. The requirements for submitting a complete EFP application are provided in the regulations implementing the Magnuson-Stevens Fishery Conservation and Management Act at § 600.745(b).

Classification

This action is required by 50 CFR part 648 and is exempt from review under Executive Order 12866.

This document contains collection-of-information requirements subject to the Paperwork Reduction Act (PRA). The information requested in an EFP application has been approved under Office of Management and Budget (OMB) Control number 0648-0309. Notwithstanding any other provision of law, no person is required to respond to, nor shall any person be subject to a penalty for failure to comply with, a collection of information subject to the requirements of the PRA unless that collection of information displays a currently valid OMB control number.

Authority: 16 U.S.C. 1801 et seq.

Dated: July 26, 2006.
Alan D. Risenhoover,
Acting Director, Office of Sustainable Fisheries, National Marine Fisheries Service.

[FR Doc. E6-12365 Filed 7-31-06; 8:45 am]

BILLING CODE 3510-22-S